DEPARTMENT OF DEFENSE

Department of the Navy

Notice of Intent To Grant Partially Exclusive License; OLLI Technology Corporation dba Tanka

AGENCY: Department of the Navy, DoD.

ACTION: Notice of Intent to Grant License.

SUMMARY: The Department of the Navy hereby gives notice of its intent to grant to OLLI Technology Corporation dba Tanka a partially exclusive license to practice the Government-owned inventions described in the following U.S. Patents: U.S. Patent No. 8,023,760 titled “System and method for enhancing low-visibility imagery,” U.S. Patent No. 8,116,522 titled “Ship detection system and method from overhead images,” U.S. Patent No. 8,149,245 titled “Adaptive linear contrast method for enhancement of low-visibility imagery,” U.S. Patent No. 8,170,272 titled “Method for classifying vessels using features extracted from overhead imagery,” U.S. Patent No. 8,411,969 titled “Method for fusing overhead imagery with automatic vessel reporting systems,” U.S. Patent No. 8,422,738 titled “Adaptive automated synthetic aperture radar ship detection method with false alarm mitigation,” U.S. Patent No. 8,437,509 titled “System and method for inferring vessel speed from overhead images,” U.S. Patent No. 8,731,237 titled “Automatic asset detection for disaster relief using satellite imagery,” U.S. Patent No. 8,958,602 titled “System and method for tracking maritime domain targets from video data,” U.S. Patent No. 9,305,214 titled “Systems and methods for real-time horizon detection in images,” U.S. Patent No. 9,349,170 titled “Single image contrast enhancement method using the adaptive wiener filter,” and U.S. Patent No. 9,355,439 titled “Joint contrast enhancement and turbulence mitigation method,” as well as any re-issue.

DATES: Anyone wishing to object to the grant of this license has fifteen (15) days from the publication date of this notice to file written objections along with supporting evidence, if any.

ADDRESSES: Written objections are to be filed with the Office of Research and Technology Applications, Space and Naval Warfare Systems Center Pacific, Code 72120, 53560 Hull St, Bldg A33, Room 2531, San Diego, CA 92152-5001. File an electronic copy of objections with paul.a.herbert@navy.mil.

FOR FURTHER INFORMATION CONTACT: Mr. Paul Herbert, 619-553-5118, paul.a.herbert@navy.mil.

(Authority: 35 U.S.C. 209(e); 37 CFR 404.7)

Dated: June 19, 2018.
E.K. Baldini,
Lieutenant Commander, Judge Advocate General's Corps, U.S. Navy, Federal Register Liaison Officer.

[FR Doc. 2018-13647 Filed 6-25-18; 8:45 am]

BILLING CODE 3810-FF-P